DEPARTMENT OF TRANSPORTATION

Federal Aviation Administration

14 CFR Part 39

[Docket No. FAA-2021-0316; Project Identifier MCAI-2020-00461-E; Amendment 39-21657; AD 2021-15-10]

RIN 2120-AA64

Airworthiness Directives; GE Aviation Czech s.r.o. (Type Certificate Previously Held by WALTER Engines a.s., Walter a.s., and MOTORLET a.s.) Turboprop Engines

AGENCY: Federal Aviation Administration (FAA), DOT.

ACTION: Final rule.

SUMMARY: The FAA is adopting a new airworthiness directive (AD) for all GE Aviation Czech s.r.o. (GEAC) H75-200, H80-100, and H80-200 model turboprop engines. This AD was prompted by several reports of engine gas generator speed (Ng) rollbacks occurring below idle on GEAC H75-200, H80-100, and H80-200 model turboprop engines. This AD requires an inspection of a certain part number (P/N) fuel control unit (FCU) and, if deficiencies are detected, replacement of the FCU with a part eligible for installation. The FAA is issuing this AD to address the unsafe condition on these products.

DATES: This AD is effective September 21, 2021.

The Director of the Federal Register approved the incorporation by reference of a certain publication listed in this AD as of September 21, 2021.

ADDRESSES: For service information identified in this final rule, contact GE Aviation Czech, Beranových 65 199 02 Praha 9—Letňany, Czech Republic; phone: +420 222 538 111. You may view this service information at the FAA, Airworthiness Products Section, Operational Safety Branch, 1200 District Avenue, Burlington, MA 01803. For information on the availability of this material at the FAA, call (781) 238-7759. It is also available at https://www.regulations.gov by searching for and locating Docket No. FAA-2021-0316.

Examining the AD Docket

You may examine the AD docket at https://www.regulations.gov by searching for and locating Docket No. FAA-2021-0316; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Barbara Caufield, Aviation Safety Engineer, ECO Branch, FAA, 1200 District Avenue, Burlington, MA 01803; phone: (781) 238-7146; fax: (781) 238-7199; email: barbara.caufield@faa.gov.

SUPPLEMENTARY INFORMATION:

Background

The FAA issued a notice of proposed rulemaking (NPRM) to amend 14 CFR part 39 by adding an AD that would apply to all GEAC H75-200, H80-100, and H80-200 model turboprop engines. The NPRM published in the Federal Register on April 20, 2021 (86 FR 20465). The NPRM was prompted by several reports of engine gas generator speed (Ng) rollbacks occurring below idle on GEAC H75-200, H80-100, and H80-200 model turboprop engines. The NPRM proposed to require an inspection of a certain P/N FCU and, if deficiencies are detected, replacement of the FCU with a part eligible for installation. The FAA is issuing this AD to address the unsafe condition on these products.

The European Union Aviation Safety Agency (EASA), which is the Technical Agent for the Member States of the European Community, has issued EASA AD 2020-0082, dated April 1, 2020 (referred to after this as “the MCAI”), to address the unsafe condition on these products. The MCAI states:

Several occurrences have been reported of engine gas generator speed (Ng) rollbacks below idle on engines equipped with an affected part.

The investigation determined that, during these events, the engine control lever (ECL) was set to idle, and identified as contributing factors specific environmental temperatures, possibly in combination with a high power off-take. The idle setting may be used in flight, in particular during the approach phase.

This condition, if not detected and corrected, may lead to loss of engine power and eventually, on a single engine aeroplane, possibly result in loss of control.

To address this potential unsafe condition, GEAC issued the ASB providing applicable instructions.

You may obtain further information by examining the MCAI in the AD docket at https://www.regulations.gov by searching for and locating Docket No. FAA-2021-0316.

Discussion of Final Airworthiness Directive

Comments

The FAA received no comments on the NPRM or on the determination of the costs.

Conclusion

The FAA reviewed the relevant data and determined that air safety requires adopting this AD as proposed. Accordingly, the FAA is issuing this AD to address the unsafe condition on these products. This AD is adopted as proposed in the NPRM.

Related Service Information Under 1 CFR Part 51

The FAA reviewed GE Aviation Czech Alert Service Bulletin (ASB) No. ASB-H80-73-00-00-0052[00]/ASB-H75-73-00-00-0022[00] (single document), Revision 00, dated February 6, 2020. The service information specifies procedures for performing a functional inspection of the FCU, P/N LUN 6590.07-8, and replacing the FCU. This service information is reasonably available because the interested parties have access to it through their normal course of business or by the means identified in ADDRESSES.

Costs of Compliance

The FAA estimates that this AD affects 33 engines installed on airplanes of U.S. registry.

The FAA estimates the following costs to comply with this AD:

Estimated Costs
Action | Labor cost | Parts cost | Cost per product | Cost on U.S. operators
Functional Inspection of FCU | 0.50 work-hours × $85 per hour = $42.50 | $0 | $42.50 | $1,402.50
Replace FCU | 4 work-hours × $85 per hour = $340 | 25,000 | 25,340 | 836,220

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-15-10 GE Aviation Czech s.r.o. (Type Certificate previously held by WALTER Engines a.s., Walter a.s., and MOTORLET a.s.): Amendment 39-21657; Docket No. FAA-2021-0316; Project Identifier MCAI-2020-00461-E.

(a) Effective Date

This airworthiness directive (AD) is effective September 21, 2021.

(b) Affected ADs

None.

(c) Applicability

This AD applies to GE Aviation Czech s.r.o. (GEAC) (Type Certificate previously held by WALTER Engines a.s., Walter a.s., and MOTORLET a.s.) H75-200, H80-100, and H80-200 model turboprop engines.

(d) Subject

Joint Aircraft System Component (JASC) Code 7321, Fuel Control/Turbine Engines.

(e) Unsafe Condition

This AD was prompted by several reports of engine gas generator speed (Ng) rollbacks below idle on GEAC H75-200, H80-100, and H80-200 model turboprop engines with a fuel control unit (FCU), part number (P/N) LUN 6590.07-8, installed. The FAA is issuing this AD to prevent engine Ng rollbacks below idle on engines equipped with an FCU, P/N LUN 6590.07-8. The unsafe condition, if not addressed, could result in loss of engine power and loss of control of the airplane.

(f) Compliance

Comply with this AD within the compliance times specified, unless already done.

(g) Required Actions

(1) Within 100 flight hours (FHs) after the effective date of this AD, and thereafter at intervals not to exceed 100 FHs since the previous inspection, perform a functional inspection of the FCU, P/N LUN 6590.07-8, using the Accomplishment Instructions, paragraph 2.1.1, Ground Check Procedure, of GE Aviation Czech Alert Service Bulletin No. ASB-H80-73-00-00-0052[00]/ASB-H75-73-00-00-0022[00] (single document), Revision 00, dated February 6, 2020 (the ASB).

(2) If, during any functional inspection required by paragraph (g)(1) of this AD, the engine Ng is:

(i) Equal to or greater than 57% up to and including 60%, then no further action is required.

(ii) Equal to or greater than 55% but lower than 57%, then follow the steps 1 through 3 under “Ng speed is equal to or above 55% and below 57%” in the Accomplishment Instructions, paragraph 2.1.2, Ground check results evaluation, of the ASB.

(iii) Below 55%, then follow steps 1 and 2 under “Ng speed is below 55%” in the Accomplishment Instructions, paragraph 2.1.2, Ground check results evaluation, of the ASB.

Note 1 to paragraph (g)(2): In the Accomplishment Instructions, paragraph 2.1.2, of the ASB, where the ASB states “Do steps 1 thru 8 after the FCU adjustment,” do steps 1 through 7 of the Accomplishment Instructions, paragraph 2.1.1, in the ASB.

(3) During the next engine overhaul, or within 44 months, whichever occurs first after the effective date of this AD, remove the FCU, P/N LUN 6590.07-8, and replace it with a part eligible for installation.

(h) Installation Prohibition

After the effective date of this AD, do not install an FCU, P/N LUN 6590.07-8, onto any engine.

(i) Definition

For the purpose of this AD, a part eligible for installation is an FCU, P/N LUN 6590.71-8.

(j) Terminating Action

Installing a part eligible for installation onto an engine as required by paragraph (g)(2) or (3) of this AD, as applicable, constitutes terminating action for the functional inspections required by paragraph (g)(1) of this AD for that engine.

(k) No Reporting Requirements

The reporting requirements specified in paragraph 2.1.2 of the ASB are not required by this AD.

(l) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information. You may email your request to: ANE-AD-AMOC@faa.gov.

(2) Before using any approved AMOC, notify your appropriate principal inspector, or lacking a principal inspector, the manager of the local flight standards district office/certificate holding district office.

(m) Related Information

(1) For more information about this AD, contact Barbara Caufield, Aviation Safety Engineer, ECO Branch, FAA, 1200 District Avenue, Burlington, MA 01803; phone: (781) 238-7146; fax: (781) 238-7199; email: barbara.caufield@faa.gov.

(2) Refer to European Union Aviation Safety Agency (EASA) AD 2020-0082, dated April 1, 2020, for more information. You may examine the EASA AD in the AD docket at https://www.regulations.gov by searching for and locating Docket No. FAA-2021-0316.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GE Aviation Czech Alert Service Bulletin No. ASB-H80-73-00-00-0052[00]/ASB-H75-73-00-00-0022[00] (single document), Revision 00, dated February 6, 2020.

(ii) [Reserved]

(3) For GE Aviation Czech service information identified in this AD, contact GE Aviation Czech, Beranových 65 199 02 Praha 9—Letňany, Czech Republic; phone: +420 222 538 111.

(4) You may view this service information at FAA, Airworthiness Products Section, Operational Safety Branch, 1200 District Avenue, Burlington, MA 01803. For information on the availability of this material at the FAA, call (781) 238-7759.

(5) You may view this service information that is incorporated by reference at the National Archives and Records Administration (NARA). For information on the availability of this material at NARA, email: fr.inspection@nara.gov, or go to: https://www.archives.gov/federal-register/cfr/ibr-locations.html.

Issued on July 15, 2021.
Lance T. Gant,
Director, Compliance & Airworthiness Division, Aircraft Certification Service.

[FR Doc. 2021-17519 Filed 8-16-21; 8:45 am]

BILLING CODE 4910-13-P